DEPARTMENT OF AGRICULTURE

Animal and Plant Health Inspection Service

[Docket No. APHIS-2020-0081]

Joint Environmental Impact Report and Environmental Impact Statement for Wildlife Damage Management in California

AGENCY: Animal and Plant Health Inspection Service, Agriculture (USDA).

ACTION: Notice of intent to prepare an environmental impact statement and proposed scope of study.

SUMMARY: We are advising the public that the Animal and Plant Health Inspection Service, working in coordination with the California Department of Food and Agriculture, intends to prepare a joint environmental impact report (EIR) and environmental impact statement (EIS) analyzing alternatives for wildlife damage management in California in accordance with the California Environmental Quality Act and the National Environmental Policy Act. This notice proposes issues and alternatives for consideration in the joint EIR/EIS and requests public comments to further delineate the scope of the alternatives, environmental issues, and other issues of public concern to be considered in the EIR/EIS.

DATES: Two virtual public scoping meetings will be held on October 13, 2020, 5:30 p.m. to 8:30 p.m. PST, and October 27, 2020, 5:30 p.m. to 8:30 p.m. PST. We will consider all comments that we receive on or before November 10, 2020.

ADDRESSES: You may submit comments by any of the following methods:

• California Wildlife Damage Management EIR/EIS web page: Go to www.CaliforniaWDM.org.

• Electronic Mail: Send electronic mail (email) to comments@CaliforniaWDM.org.

• At the virtual scoping meetings on October 13 and 27, 2020. Details for participation can be found at www.CaliforniaWDM.org.

• Postal Mail/Commercial Delivery: Send your comment to California Wildlife Damage Management EIR/EIS, ATTN: Scoping Comments, 2121 Broadway, P.O. Box 188797, Sacramento, CA 95818.

Supporting documents and any comments received on this topic may be viewed at www.CaliforniaWDM.org.

FOR FURTHER INFORMATION CONTACT: Mr. Dennis Orthmeyer, USDA-APHIS-Wildlife Services, 3419-A Arden Way, Sacramento, CA 95825; (916) 979-2675; Dennis.L.Orthmeyer@usda.gov. Further information is also available on the California Wildlife Damage Management EIR/EIS web page (see ADDRESSES above).

SUPPLEMENTARY INFORMATION:

Background

California wildlife provides many positive ecological, cultural, economic, and aesthetic benefits. However, some wildlife species are involved in conflicts with humans, including damaging agricultural resources and property, preying upon or harassing livestock, damaging infrastructure, and threatening human health and safety. In certain instances, wildlife species may impede efforts by wildlife management agencies to protect and enhance natural resources. Wildlife may also prey upon populations of threatened or endangered species or damage habitat restoration efforts.

The Animal and Plant Health Inspection Service (APHIS) Wildlife Services' California office (WS-California) provides Federal leadership and expertise in managing wildlife conflicts in California to allow people and wildlife to coexist. WS-California currently uses an integrated approach to recommend and apply a range of legally available nonlethal and lethal techniques for reducing wildlife damage and conflicts. WS-California works to resolve bird and mammal conflicts with agriculture, infrastructure, property, airport operations, and threatened and endangered species protection. WS-California also works to reduce conflicts with wildlife that threaten human health and safety.

WS-California currently provides advice on wildlife damage prevention and management, information on sources of wildlife damage management materials, depredation investigations, training on the use of damage management methods, and technical assistance. WS-California also assists with implementation of wildlife damage management methods. WS-California receives requests for assistance from the public, private entities, other agencies and governmental bodies, and Native American Tribes.

WS-California's wildlife damage management activities are authorized and coordinated pursuant to Federal law (the Acts of March 2, 1931 (7 U.S.C. 8351-8352), as amended, and December 22, 1987 (7 U.S.C. 8353)), as well as memoranda of understanding and agreements with various Federal, State, Tribal, and local agencies and other governmental bodies. WS-California conducts its actions in accordance with applicable Federal, State, local, and Tribal laws, regulations, species management plans, and land management plans.

WS-California has entered into a memorandum of understanding (MOU) with the California Department of Food and Agriculture (CDFA) to develop a joint environmental review of both agencies' roles in wildlife damage management in California.

Proposed Action

WS-California and CDFA are cooperating as joint lead agencies to prepare an environmental impact report and environmental impact statement (EIR/EIS) evaluating alternatives for both agencies' involvement in managing wildlife damage and conflict in California. WS-California will serve as the lead agency for the EIS portion of the joint analysis. CDFA will serve as the lead agency for the EIR portion of the joint analysis. This EIR/EIS is being developed in accordance with the California Environmental Quality Act (California Public Resources Code 21000 et seq., CEQA) and the National Environmental Policy Act (42 U.S.C. 4321 et seq., NEPA). In the EIS portion of the combined report, WS-California intends to evaluate the environmental impacts of managing wildlife damage and threats to agricultural resources, property, natural resources, and human health and safety.

The scope of the analysis will include WS-California's cooperative activities with Federal and State agencies, California counties, Tribes, and local municipalities managing human-wildlife conflicts caused by birds and mammals. Cooperative activities may include:

• Reducing damage to agricultural resources;

• Reducing damage to infrastructure and property;

• Reducing wildlife strike hazards at airports;

• Managing damage by invasive species;

• Reducing threats to human health and safety associated with wildlife; and

• Protecting threatened and endangered species.

Once completed, the EIR/EIS will replace all of WS-California's district level environmental assessments on wildlife damage management in California.

Scoping

This notice opens a public scoping period for the EIR/EIS. Please review the information in this notice and the supplemental information, which may be viewed on the California Wildlife Damage Management EIR/EIS web page (see ADDRESSES above). Copies of supplemental information may be requested from WS-California (see FOR FURTHER INFORMATION CONTACT above). You can also register online to receive notices regarding this project at: https://public.govdelivery.com/accounts/USDAAPHIS/subscriber/new.

WS-California is particularly interested in receiving comments regarding biological, cultural, or ecological issues that the analysis should address (see Environmental Issues for Consideration in the EIR/EIS Analysis below). We also encourage comments that assist us in further delineating the scope of alternatives, environmental impacts, and other issues of public concern. To promote informed decision-making, we especially encourage commenters to submit any scientific data, studies, or research that you feel is relevant to the analysis. Comments may be submitted electronically or by mail (see instructions in ADDRESSES above) on or before November 10, 2020.

To facilitate public and agency involvement in the EIR/EIS process, we will hold two public meetings during the scoping period on October 13 and October 27, 2020 (see DATES above). Due to current local and State orders concerning COVID-19, the meetings will be virtual in format. The scoping meetings will solicit input from the public and interested public agencies regarding the scope of environmental impacts to be addressed in the draft EIR/EIS.

Further information concerning the scoping process, including links to attend the virtual scoping meetings, can be obtained through the California Wildlife Damage Management EIR/EIS web page (see ADDRESSES above), or by contacting WS-California (see FOR FURTHER INFORMATION CONTACT above).

Alternatives

The EIS will consider a range of reasonable alternatives:

• An alternative that continues WS-California's current wildlife damage and conflict management activities (the no action alternative);

• Alternatives with restrictions on integrated wildlife damage management to reduce environmental impacts (e.g., no use of toxicants);

• Alternatives that require varying levels of nonlethal wildlife damage management; and

• No WS-California involvement alternative.

Additional alternatives may be identified through the public scoping process.

Environmental Issues for Consideration in the EIR/EIS Analysis

The primary purpose of the EIR/EIS is to analyze and disclose environmental impacts of wildlife damage management activities conducted throughout the State of California by WS-California, CDFA, and California counties. WS-California, CDFA, and the cooperating agencies have identified the following preliminary issues that will drive the analysis of the alternatives in the EIS. The public is encouraged to submit comments on these or other issues that should be considered:

• Impacts on wildlife populations;

• Effects on nontarget animal populations including species federally listed under the Endangered Species Act (61 U.S.C. 1531 et seq.);

• Impacts on ecosystem processes (e.g., trophic cascades);

• Impacts on Special Management Areas, including Wilderness and Wilderness Study Areas;

• Humaneness of methods;

• Impacts of the alternatives on Native American culture and resource uses; and

• Risks and benefits to human and pet safety.

More information on CEQA-specific issues considered in the EIR portion of the analysis can be found in CDFA's Notice of Preparation available on the California Wildlife Damage Management EIR/EIS web page (see ADDRESSES above). After the comment period closes, WS-California and CDFA will review and consider all comments received during the comment period any other relevant information when developing the draft EIR/EIS. Upon completion of the draft EIS/EIR, a document announcing its availability and an opportunity to comment will be published in the Federal Register.

Done in Washington, DC, this 24th day of August 2020.
Mark Davidson,
Administrator, Animal and Plant Health Inspection Service.

[FR Doc. 2020-19090 Filed 9-9-20; 8:45 am]

BILLING CODE 3410-34-P